FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Assistance to Firefighter Grant Program “ Grant Application Supplemental Information.

Type of Information Collection: Revision of a currently approved collection.

OMB Number: 3067-0285.

Abstract: The information collected will be used to objectively evaluate each of the 20,000 to 25,000 anticipated applications to determine which of the proposed projects most closely address the established program priorities and which applicants have the greatest needs. The information will also be used to determine which projects offer the highest benefits for the costs incurred and the information will be used to ensure the FEMA's responsibilities, mandated in the legislation, are fulfilled accurately and efficiently.

Affected Public: Non-For-Profit Institutions and State, Local or Tribal Government.

Number of Respondents: 25,000.

Estimated Time per Respondent:

Type of forms or collection | Number of respondents | Hours per response | Annual burden hours
SF-424 Application Facesheets | 20,000 to 25,000 | 0.5 | 10,000 to 12,500.
20-20 Budget Non-Construction | 20,000 to 25,000 | 1.0 | 20,000 to 25,000.
20-16 Summary of Assurances | 20,000 to 25,000 | 0.5 | 10,000 to 12,500.
Grant Application Supplemental Information | See details below | See details below | See details below.
General Questions for all Applicants | 20,000 to 25,000 | 1.0 | 20,000 to 25,000.
Vehicle Acquisition | 6,000 to 10,000 | 0.5 | 3,000 to 5,000.
Firefighting Operations and Safety | 9,000 to 13,000 | 0.5 | 4,500 to 6,500.
Emergency Medical Services | 2,000 to 4,000 | 0.5 | 1,000 to 6,500.
Fire Prevention Programs | 2,000 to 4,000 | 0.5 | 1,000 to 2,000.
Fire Prevention Programs | 1,000 to 2,000 | 0.5 | 500 to 1,000.
Assistance to Firefighter Grant Program Narrative | 20,000 to 25,000 | 2.0 | 40,000 to 50,000.
SE-LLL Lobbying Disclosure | 20,000 to 25,000 | 0.5 | 4,000 to 5,000.
Payment Document SF-270 | 6,000 to 12,000 | 0.5 | 3,000 to 6,000.
Direct Deposit Form SF-1199a | 6,000 | 1.0 | 6,000.
SF 20-10 Financial Status Report | 6,000 | 1.0 | 6,000.
Final Performance Report (as required by the Articles of Agreement) | 6,000 | 0.5 | 3,000.

Estimated Total Annual Burden Hours: 174,540.

Frequency of Response: Annually.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail InformationCollection@fema.gov.

Dated: August 30, 2002.
Reginald Trujillo,
Branch Chief, Program Services and Systems Branch, Facilities Management and Services Division, Administration and Resource Planning Directorate.

[FR Doc. 02-22819 Filed 9-6-02; 8:45 am]

BILLING CODE 6718-01-P